DEPARTMENT OF ENERGY

Federal Energy Regulatory Commission

[Project No. 14202-001]

FFP Project 70, LLC; Notice of Intent To File License Application, Filing of Pre-Application Document, and Approving Use of the Traditional Licensing Process

a. Type of Filing: Notice of Intent to File License Application and Request to Use the Traditional Licensing Process.

b. Project No.: 14202-001.

c. Date Filed: April 3, 2012.

d. Submitted By: Free Flow Power Corporation on behalf of FFP Project 70, LLC (FFP), a wholly-owned subsidiary of Free Flow Power, LLC.

e. Name of Project: Mississippi Lock and Dam 19 Water Power Project.

f. Location: Mississippi River at river mile 364.2, in Lee County, Iowa at an existing out-of-service lock and dry dock area owned and operated by the US Army Corps of Engineers (Corps). The proposed project would occupy 23.3 acres of land, all of which are owned by the Corps.

g. Filed Pursuant to: 18 CFR 5.3 of the Commission's regulations.

h. Potential Applicant Contact: Ramya Swaminathan, Free Flow Power Corporation, 239 Causeway Street, Suite 300, Boston, MA 02114; (978) 283-2822; or email at rswaminathan@free-flow-power.com.

i. FERC Contact: Lesley Kordella at (202) 502-6406; or email at lesley.kordella@ferc.gov.

j. Free Flow Power Corporation on behalf of FFP Project 70, LLC filed a request to use the Traditional Licensing Process on April 3, 2012. Free Flow Power Corporation provided public notice of the request on March 13 and 14, 2012. In a letter dated June 1, 2012, the Director of the Division of Hydropower Licensing approved the request to use the Traditional Licensing Process.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the Iowa State Historic Preservation Officer, as required by section 106, National Historical Preservation Act, and the implementing regulations of the Advisory Council on Historic Preservation at 36 CFR 800.2.

l. With this notice, we are designating FFP Project 70, LLC and Free Flow Power Corporation as the Commission's non-federal representatives for carrying out informal consultation, pursuant to section 7 of the Endangered Species Act, section 305 of the Magnuson-Stevens Fishery Conservation and Management Act, and section 106 of the National Historic Preservation Act.

m. Free Flow Power Corporation on behalf of FFP Project 70, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number (P-14202), excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via email of new filing and issuances related to this or other pending projects. For assistance, contact FERC Online Support.

Dated: June 1, 2012.
Kimberly D. Bose,
Secretary.

[FR Doc. 2012-13882 Filed 6-7-12; 8:45 am]

BILLING CODE 6717-01-P